ENVIRONMENTAL PROTECTION AGENCY

[FRL-6586-1]

San Fernando Valley, Area 2—Glendale Operable Units Superfund Site Proposed Notice of Administrative Settlement

AGENCY: Environmental Protection Agency (EPA).

ACTION: Notice; Request for Public Comment.

SUMMARY: In accordance with the Comprehensive Environmental Response, Compensation and Liability Act of 1980, as amended by the Superfund Amendments and Reauthorization Act of 1986 (“CERCLA”), 42 U.S.C. 9601 et seq., notice is hereby given that a proposed Agreement and Covenant Not to Sue associated with the San Fernando Valley Crystal Springs Superfund Site—Glendale Operable Units was executed by EPA on January 25, 2000. The proposed Agreement and Covenant Not to Sue would resolve certain potential claims of the United States under sections 106 and 107 of CERCLA, 42 U.S.C. 9606 and 9607, and Section 7003 of the Solid Waste Disposal Act, as amended, 42 U.S.C. 6973, against Ford Leasing Development Company and Ford Front Realty Corp. (the “Purchasers”). The Purchasers have acquired certain real property formerly owned by ZERO Corporation at the southwest corner of Burbank Boulevard and Front Street, Burbank, California. The Purchasers plan to acquire two separate adjacent parcels currently owned by the City of Burbank. The property consists of a total of approximately 12.1 acres. The Purchasers intend to construct an automobile dealership sales and service facility and related amenities on the property. The proposed settlement would require the Purchasers to pay EPA a one-time payment of $ 150,000.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, CA 94105.

DATES: Comments must be submitted on or before May 30, 2000.

AVAILABILITY: The proposed Agreement and Covenant Not to Sue and additional background documentation relating to the settlement are available for public inspection at the U.S. EPA, Region IX, 75 Hawthorne Street, San Francisco, CA, 94105. A copy of the proposed settlement may be obtained from Marie M. Rongone, Senior Counsel (ORC-3), Office of Regional Counsel, U.S. EPA Region IX, 75 Hawthorne Street, San Francisco, CA, 94105. Comments should reference “Ford Agreement and Covenant Not to Sue, San Fernando Valley Superfund Site, Glendale Operable Units,” and “Docket No. 2000-03” and should be addressed to Ms. Rongone at the above address.

FOR FURTHER INFORMATION CONTACT: Marie M. Rongone, Senior Counsel (ORC-3), Office of Regional Counsel, U.S. EPA Region IX, 75 Hawthorne Street, San Francisco, CA 94105; E-mail: rongone.marie@epamail.epa.gov; Phone: (415) 744-1313; Facsimile (415) 744-1041.

Dated: March 30, 2000.
Keith Takata,
Director, Superfund Division, U.S. EPA, Region IX.

[FR Doc. 00-10522 Filed 4-26-00; 8:45 am]

BILLING CODE 6560-50-P